DEPARTMENT OF TRANSPORTATION

Federal Aviation Administration

Notice of Intent To Rule on Application 04-C-00-PQI Impose and Use the Revenue From a Passenger Facility Charge (PFC) at Northern Maine Regional Airport, Presque Isle, ME

AGENCY: Federal Aviation Administration (FAA), DOT.

ACTION: Notice of intent to rule on application.

SUMMARY: The FAA proposes to rule and invites public comment on the application to impose and use the revenue from a PFC at Northern Maine Regional Airport under the provisions of the 49 U.S.C. 40117 and part 158 of the Federal Aviation Regulations (14 CFR part 158).

DATES: Comments must be received on or before April 22, 2004.

ADDRESSES: Comments on this application may be mailed or delivered in triplicate to the FAA at the following address: Federal Aviation Administration, ANE-600, attn: Priscilla Scott, 12 New England Executive Park, Burlington, Massachusetts 01803.

In addition, one copy of any comments submitted to the FAA must be mailed or delivered to Thomas Stevens, City Manager of the City of Presque Isle at the following address: 650 Airport Drive, Suite 11, Presque Isle, Maine 04769.

Air carriers and foreign air carriers may submit copies of written comments previously provided to the City of Presque Isle under § 158.23 of part 158.

FOR FURTHER INFORMATION CONTACT: Priscilla Scott, PFC Program Manager at (781) 238-7614. The application may be reviewed in person at the FAA Airport's Division, 16 New England Executive Park, Burlington, Massachusetts.

SUPPLEMENTARY INFORMATION: The FAA proposes to rule and invites public comment on the application to impose and use the revenue from a PFC at Northern Maine Regional Airport under the provisions of the 49 U.S.C. 40117 and Part 158 of the Federal Aviation Regulations (14 CFR part 158).

On February 27, 2004, the FAA determined that the application to impose and use the revenue from a PFC submitted by the City of Presque Isle was substantially complete within the requirements of section 158.25 of part 158. The FAA will approve or disapprove the application, in whole or in part, no later than May 28, 2004.

The following is a brief overview of the application.

Proposed charge effective date: August 1, 2004.

Proposed charge expiration date: October 1, 2007.

Level of the proposed PFC: $4.50.

Total estimated PFC revenue: $245,893.

Brief description of proposed projects:

Airport master plan and PFC application costs;

Design only for rehabilitation of taxiways, terminate apron, runway 1-19, preparation of Maine DEP site location permit application, improvements to runway safety areas and replacement of HIRLS;

Rehabilitation of taxiway “C”, a portion of taxiway “N”, taxiway “B”, taxiway “A” and the main terminal apron and the expansion of main terminal apron;

Acquisition of snow removal equipment and aircraft rescue and firefighting vehicle and the installation of guidance signs and communication equipment;

Property acquisition, obstruction removal and construct terminal ramp and ramp equipment storage building;

Construct aircraft rescue and firefighting and snow removal equipment building and development of airport sign and guidance plan.

Class or classes of air carriers, which the public agency has requested not be required to collect PFCs: Non-schedule/on-demand air taxi commercial operators.

Any person may inspect the application in person at the FAA office listed above under FOR FURTHER INFORMATION CONTACT.

In addition, any person may, upon request, inspect the application, notice and other documents germane to the application in person at the City of Presque Isle.

Issued in Burlington, Massachusetts on March 5, 2004.
Vincent A. Scarano,
Manager, Airports Division, New England Region.

[FR Doc. 04-6387 Filed 3-22-04; 8:45 am]

BILLING CODE 4910-13-M